DEPARTMENT OF COMMERCE

U.S. Census Bureau

Proposed Information Collection; Comment Request; Boundary and Annexation Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before October 22, 2012.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Laura Waggoner, U.S. Census Bureau, 4600 Silver Hill Road, Washington, DC 20233 (or via the Internet at Laura.L.Waggoner@census.gov).

SUPPLEMENTARY INFORMATION:

I. Abstract

The Census Bureau conducts the Boundary and Annexation Survey (BAS) to collect and maintain information about the inventory of the legal boundaries for and the legal actions affecting the boundaries of counties and equivalent entities, incorporated places, minor civil divisions, and federally recognized legal American Indian and Alaska Native areas. This information provides an accurate identification of geographic areas for the Census Bureau to use in conducting the decennial and economic censuses and ongoing surveys, preparing population estimates, and supporting other statistical programs of the Census Bureau, and the legislative programs of the Federal government.

Through the BAS, the Census Bureau asks each government to review materials for its jurisdiction to verify the correctness of the information portrayed. Each government is asked to update the boundaries, supply information documenting each legal boundary change, and provide changes in the inventory of governments.

The BAS universe and mailing materials vary depending both upon the needs of the Census Bureau in fulfilling its censuses and household surveys, and upon budget constraints.

Counties or equivalent entities federally recognized American Indian reservations, off-reservation trust lands, and tribal subdivisions are included in every survey.

In the years ending in 8, 9 and 0, the BAS includes all governmentally active counties and equivalent entities, incorporated places, and legally defined minor civil divisions, and legally defined federally recognized American Indian and Alaska Native areas (including the Alaska Native Regional Corporations). Each governmental entity surveyed will receive materials covering its jurisdiction and one or more forms. These three years coincide with the Census Bureau's preparation for the decennial census. There are less than 40,000 governments in the universe each year.

In all other years, the BAS reporting universe includes all legally defined federally recognized American Indian and Alaska Native areas, all governmental counties and equivalent entities, minor civil divisions in the six New England States and those incorporated places that have a population of 2,500 or greater. The reporting universe is approximately 14,000 governments due to budget constraints. The Census Bureau only follows up on a subset of governments designated as the reporting universe.

In the years ending in 1 through 7, the Census Bureau may enter into agreements with individual States to modify the universe of minor civil divisions and/or incorporated places to include additional entities that are known by that State to have had boundary changes, without regard to population size. Each year, the BAS will also include each year a single respondent request for municipio, barrio, barrio-pueblo, and subbarrio boundary and status information in Puerto Rico and Hawaiian Homeland boundary and status information in Hawaii.

No other Federal agency collects these data nor is there a standard collection of this information at the State level. The Census Bureau's BAS is a unique survey providing a standard result for use by federal, state, local, and tribal governments and by commercial, private, and public organizations.

II. Method of Collection

The Census Bureau has developed and continues to use several methods to collect information on status and updates for legal boundaries. These methods are:

• State Certification

• Consolidation Agreements

• Annual Response

• Paper BAS

• Digital BAS

Through the BAS State Certification program, the Census Bureau invites the Governor-appointed State Certifying Official (SCO) from each state, except Hawaii, to review the boundary and governmental unit information collected during the previous BAS cycle. The purpose of the State Certification program is to verify the accuracy and validity of the BAS information with the state governments for incorporated places received through the previous BAS cycle. The Census Bureau requests the SCOs to review data files, including the attribute data legal boundary changes, as well as the legal names and functional statuses of incorporated places and minor civil divisions, and any new incorporations or disincorporation reported through the BAS. An SCO may request the Census Bureau to edit the attribute data, add missing records, or remove invalid records if their state government maintains an official record of all effective changes to legal boundaries and governmental units as mandated by state law. State Certification packages contain: a letter to the Governor, a State Certifying Official Letter, a Discrepancy Letter, and a State Certification Respondent Guide.

Consolidation Agreements allow government officials from state governments the opportunity to participate in consolidation agreements to reduce the burden of response for their local governments. If a state government has legislation requiring local governments to report all legal boundary updates to a state agency (including a map of the annexed area), the state has the option to provide all the updates for their counties (and all associated governments within each county). The state provides the Census Bureau with a list of counties where the state agrees to provide a consolidated update of boundary changes for these counties and all entities within them. The Census Bureau notifies the governments within the counties that the state will be submitting the boundary updates for them and a reminder to submit their updates to the state.

State governments that have legislation requiring governments to report all legal boundary updates to a state agency will also have the opportunity to participate in a consolidation agreement. The state updates the list of minor civil divisions and/or incorporated places that will be surveyed to include only those entities known by the state as having boundary changes. The Census Bureau sends BAS materials to those local governments.

If a county government has legislation requiring local governments to report all legal boundary updates to the county, or if the local governments agree that the county will provide the updates, then the Census Bureau will provide materials only to the county and send a notification to the local governments reminding them to send their updates to the county.

Annual Response involves an announcement letter and a one-page form for the state and county governments that do not have a consolidation agreement. Under Annual Response, counties, tribes and local governments indicate whether or not they have boundary changes to report and provide a current contact person. The governments are requested to fax or email responses. The Annual Response method reduces cost and respondent burden through savings on materials and effort. All governments receive this notification regardless of population size. The Census Bureau will conduct telephone follow-up only to governments in the reporting universe due to budget constraints.

If a government requests materials through Annual Response, they may choose to download digital materials or have the materials shipped as a traditional paper package or digital media types.

For the traditional paper package, the respondent completes the BAS form and draws the boundary updates on the maps using pencils provided in the package. The package contains large format maps, printed forms and supplies to complete the survey.

The typical BAS package contains:

1. Introductory letter from the Director of the Census Bureau;

2. Appropriate BAS Form(s) that contains entity-specific identification information;

a. BAS-1: Incorporated places;

b. BAS-2: Counties, parishes, boroughs, and cities;

c. BAS-3: Minor civil divisions;

d. BAS-4: Newly incorporated places or newly activated incorporated places; and

e. BAS-5: American Indian and Alaska Native Areas.

3. BAS Respondent Guide;

4. Set of maps;

5. Return postage-paid envelope to submit boundary changes;

6. Postcard to notify the Census Bureau of no changes to the boundary; and

7. Supplies for updating paper maps.

Digital BAS includes options to receive software and spatial data to make boundary updates or to make boundary updates electronically by submitting a digital file.

A local contact from each government verifies the legal boundary, and then provides boundary changes and updated contact information. The official sign the materials, verify the forms, and return the information to the Census Bureau.

The typical Digital BAS package contains:

1. Introductory letter from the Director of the Census Bureau;

2. Appropriate BAS Form(s) that contains entity-specific identification information;

a. BAS-1: Incorporated places;

b. BAS-2: Counties, parishes, boroughs, and cities;

c. BAS-3: Minor civil divisions;

d. BAS-4: Newly incorporated places or newly activated incorporated places; and

e. BAS-5: American Indian and Alaska Native Areas.

3. CD or DVD and program CD; and

4. Postcard to notify the Census Bureau of no changes to the boundary.

The key dates for governments are as follows:

1. Annual Response is emailed, faxed, or mailed to the local contact in November or early December of each year.

2. BAS package of materials is shipped during the months of December, January, February, March, and April of each year.

3. Requests to change the method of participation (i.e., paper to digital submission and vice versa) are due on April 15th of each year.

4. Responses for inclusion in the American Community Survey (publishes annual estimates for geographic areas down to the block group undergoing boundary changes) and Population Estimates Program (produces annual estimates and projections of population, households, and housing units) are due on March 1st of each year.

5. Responses for inclusion in the following year's BAS materials are due on May 31st of each year.

To improve boundary quality in the Census Bureau's Master Address File/Topologically Integrated Geographic Encoding and Referencing System (MAF/TIGER), the Census Bureau is introducing the Cadastral Data Pilot program as part of the BAS program. The Census Bureau will conduct this pilot project related to the use of cadastral data in boundary updates. The Census Bureau will work with state and county-level participants to develop methods to use the Public Land Survey System (PLSS) and parcel datasets to assess, improve, and maintain the quality of legal boundaries in the Census Bureau's MAF/TIGER Database.

Participation in the pilot project is voluntary and the Census Bureau will telephone potential volunteers to solicit participation in the pilot. Fourteen governments will be chosen to participate and the estimated work burden for participation is 12 hours per participant.

III. Data

OMB Control Number: 0607-0151.

Form Number: BAS 1, BAS 2, BAS 3, BAS 4, BAS 5, BAS 6, BAS-ARF, BASSC-1, BASSC-2.

Type of Review: Regular submission.

Affected Public: All actively functioning counties or statistically equivalent entities, incorporated places (including consolidated cities), minor civil divisions (MCDs), all federally recognized American Indian reservations (AIRs) and off-reservation trust land entities in the United States, and municipios, barrios and subbarrios in Puerto Rico.

Estimated Number of Respondents:

Annual Response Notification: 39,400.

No Change Response: 25,000.

Telephone Follow-up: 14,000.

Packages with Changes: 5,000.

State Certification Review: 50.

State Certification Local Review: 1,000.

Cadastral Data Pilot: 14.

Estimated Time per Response:

Annual Response Notification: 30 min.

No Change Response: 4 hours.

Telephone Follow-up: 30 min.

Packages with Changes: 8 hours.

State Certification Review: 10 hours.

State Certification Local Review: 2 hours.

Cadastral Data Pilot: 12 hours.

Total Hours per Year:

Annual Response Notification: 19,700.

No Change Response: 100,000.

Telephone Follow-up: 7,000.

Packages with Changes: 40,000.

State Certification Review: 500.

State Certification Local Review: 2,000.

Cadastral Data Pilot: 168.

Total Hours: 169,368.

Estimated Total Annual Cost: $3,661,736.00.

Respondent's Obligation: Voluntary.

Legal Authority: 13 U.S.C. 6.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for Office of Management and Budget approval of this information collection. Comments will also become a matter of public record.

Dated: August 16, 2012.
Glenna Mickelson,
Management Analyst, Office of the Chief Information Officer.

[FR Doc. 2012-20579 Filed 8-21-12; 8:45 am]

BILLING CODE 3510-07-P